DEPARTMENT OF THE TREASURY

Submission for OMB Review; Comment Request

August 2, 2004.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before September 10, 2004, to be assured of consideration.

Internal Revenue Service (IRS)

OMB Number: 1545-0074.

Form Number: IRS Form 1040 and Schedules A, B, C, C-EZ, D, D-1, E, EIC, F, H, J, R, and SE.

Type of Review: Revision.

Title: U.S. Individual Income Tax Return.

Description: Form 1040 and schedules are used by individuals to report their income tax liability. The data is used to verify that the items reported on the forms are correct, and also for general statistical use.

Respondents: Individuals or households.

Estimated Number of Respondents/Recordkeepers: 78,863,011.

Estimated Burden Hours Respondent/Recordkeeper:

Form/schedule | Recordkeeping | Learning about the law or the form | Preparing the form | Copying, assembling, and sending the form to the IRS | Totals
Form 1040 | 2 hr., 46 min. | 3 hr., 57 min. | 6 hr., 15 min. | 34 min. | 13 hr., 32 min.
Schedule A | 3 hr., 4 min. | 39 min. | 1 hr., 34 min. | 20 min. | 5 hr., 37 min.
Schedule B | 33 min. | 8 min. | 25 min. | 20 min. | 1 hr., 26 min.
Schedule C | 6 hr., 4 min. | 1 hr., 51 min. | 2 hr., 19 min. | 41 min. | 10 hr., 55 min.
Schedule C-EZ | 45 min. | 3 min. | 35 min. | 20 min. | 1 hr., 43 min.
Schedule D | 55 min. | 2 hr., 30 min. | 2 hr., 18 min. | 27 min. | 6 hr., 10 min.
Schedule D-1 | 13 min. | 1 min. | 11 min. | 34 min. | 59 min.
Schedule E | 3 hr., 0 min. | 1 hr., 13 min. | 1 hr., 27 min. | 34 min. | 6 hr., 14 min.
Schedule EIC | 0 min. | 1 min. | 13 min. | 20 min. | 34 min.
Schedule F:
Cash Method | 3 hr., 29 min. | 36 min. | 1 hr., 27 min. | 20 min. | 5 hr., 52 min.
Accrual Method | 3 hr., 36 min. | 26 min. | 1 hr., 25 min. | 20 min. | 5 hr., 47 min.
Schedule H | 1 hr., 38 min. | 30 min. | 53 min. | 34 min. | 3 hr., 35 min.
Schedule J | 19 min. | 30 min. | 53 min. | 34 min. | 3 hr., 35 min.
Schedule R | 19 min. | 13 min. | 2 hr., 20 min. | 20 min. | 3 hr., 12 min.
Schedule SE:
Short | 13 min. | 14 min. | 13 min. | 13 min. | 53 min.
Long | 26 min. | 20 min. | 35 min. | 20 min. | 1 hr., 41 min.

Frequency of response: Annually.

Estimated Total Reporting/Recordkeeping Burden: 1,558,904,235 hours.

OMB Number: 1545-0085.

Form Number: IRS Form 1040A and Schedules 1, 2, 3, and EIC.

Type of Review: Revision.

Title: U.S. Individual Income Tax Return.

Description: This form is used by individuals to report their income subject to income tax and to compute their correct tax liability. The data are used to verify that the income reported on the form is correct and are also for statistics use.

Respondents: Individuals or households.

Estimated Number of Respondents/Recordkeepers: 29,493,817.

Estimated Burden Hours Respondent/Recordkeeper:

Forms/schedules | Recordkeeping | Learning about the law or the form | Preparing the form | Copying, assembling, and sending the form toe the IRS | Totals
Form 1040A | 1 hr., 10 min. | 3 hr., 30 min. | 5 hr., 2 min. | 34 min. | 10 hr., 16 min.
Schedule 1 | 19 min. | 4 min. | 13 min. | 20 min. | 56 min.
Schedule 2 | 33 min. | 10 min. | 57 min. | 31 min. | 2 hr., 12 min.
Schedule 3 | 13 min. | 14 min. | 26 min. | 34 min. | 1 hr., 27 min.
Schedule EIC | 0 min. | 1 min. | 13 min. | 20 min. | 34 min.

Frequency of response: Annually.

Estimated Total Reporting/Recordkeeping Burden: 318,496,467 hours.

Clearance Officer: Glenn P. Kirkland, Internal Revenue Service, Room 6411-03, 1111 Constitution Avenue, NW., Washington, DC 20224, (202) 622-3428.

OMB Reviewer: Joseph F. Lackey, Jr., Office of Management and Budget, Room 10235, New Executive Office Building, Washington, DC 20503, (202) 395-7316.

Lois K. Holland,
Treasury PRA Clearance Officer.

[FR Doc. 04-18304 Filed 8-10-04; 8:45 am]

BILLING CODE 4830-01-P